FEDERAL COMMUNICATIONS COMMISSION

Sunshine Act Meeting; Open Commission Meeting; Wednesday, August 4, 2004

July 28, 2004.

The Federal Communications Commission will hold an Open Meeting on the subjects listed below on Wednesday, August 4, 2004, which is scheduled to commence at 9:30 a.m. in Room TW-C305, at 445 12th Street, SW., Washington, DC.

Item No. | Bureau | Subject
1 | Homeland Security Policy Council | The Homeland Security Policy Council will present a report concerning this year's FCC regulatory, outreach, and partnership initiatives in support of homeland security.
2 | Office of Engineering and Technology | Title: Communications Assistance for Law Enforcement Act and Broadband Access and Services (RM-10865).
|  | Summary: The Commission will consider a Notice of Proposed Rulemaking and Declaratory Ruling concerning the appropriate legal and policy framework of the Communications Assistance for Law Enforcement Act.
3 | Office of Engineering and Technology | Title: New Part 4 of the Commission's Rules Concerning Disruptions to Communications (ET Docket No. 04-35).
|  | Summary: The Commission will consider a Report and Order concerning the reporting of service disruptions by providers of telecommunications services.
4 | Enforcement | Title: Review of the Emergency Alert System.
|  | Summary: The Commission will consider a Notice of Inquiry concerning the examination of the Emergency Alert System as an effective mechanism for warning the American public during an emergency.
5 | Wireline Competition | Title: Schools and Libraries Universal Service Support Mechanism (CC Docket No. 02-6).
|  | Summary: The Commission will consider a Fifth Report and Order concerning measures to protect against waste, fraud and abuse in the administration of the schools and libraries universal service support mechanism.
6 | Wireline Competition | Title: Review of the Section 251 Unbundling Obligations for Incumbent Local Exchange Carriers (CC Docket No. 01-338); Implementation of the Local Competition Provisions of the Telecommunications Act of 1996 (CC Docket No. 96-98); and Deployment of Wireline Services Offering Advanced Telecommunications Capability (CC Docket No. 98-147).
|  | Summary: The Commission will consider an Order on Reconsideration addressing, in part, petitions filed by BellSouth and SureWest for clarification and/or partial reconsideration of the Triennial Review Order (FCC 03-36).
7 | Media | Title: Second Periodic Review of the Commission's Rules and Policies Affecting the Conversion to Digital Television (MB Docket No. 03-15, RM-9832).
|  | Summary: The Commission will consider a Report and Order concerning the conversion of the nation's broadcast television system from analog to digital television.
8 | Media | Title: Digital Output Protection Technologies and Recording Method Certifications (MB Docket Nos. 04-55, 04-56, 04-57, 04-58, 04-59, 04-60, 04-61, 04-62, 04-63, 04-64, 04-65, 04-66, and 04-68).
|  | Summary: The Commission will consider an Order responding to certifications received in response to an initial certification window by which digital output protection technologies and recording methods could be authorized for use and give effect to the Redistribution Control Descriptor set forth in ATSC Standard A/65B (the “flag”).
9 | Consumer & Governmental Affairs | Title: Rules and Regulations Implementing of the Controlling the Assault of Non-Solicited Pornography and Marketing Act of 2003 (CG Docket No. 04-53); and Rules and Regulations Implementing the Telephone Consumer Protection Act of 1991 (CG Docket No. 02-278).
|  | Summary: The Commission will consider an Order concerning implementation of the Controlling the Assault of Non-Solicited Pornography and Marketing Act of 2003.

Additional information concerning this meeting may be obtained from Audrey Spivack or David Fiske, Office of Media Relations, (202) 418 0500; TTY 1-888-835-5322. Audio/Video coverage of the meeting will be broadcast live over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu. Audio and video tapes of this meeting can be purchased from CACI Productions, 14151 Park Meadow Drive, Chantilly, VA 20151, (703) 679-3851.

Copies of materials adopted at this meeting can be purchased from the FCC's duplicating contractor, Best Copy and Printing, Inc. (202) 488-5300; Fax (202) 488-5563; TTY (202) 488-5562. These copies are available in paper format and alternative media, including large print/type; digital disk; and audio tape. Best Copy and Printing, Inc. may be reached by e-mail at http://fcc@bcpiweb.com.

Federal Communications Commission.
Marlene H. Dortch,
Secretary.

[FR Doc.04-17646 Filed 7-29-04; 1:45 pm]

BILLING CODE 6712-01-P